DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: Methamphetamine Use Prevention Initiative—NEW

Prevention of Methamphetamine Abuse grants are authorized under Section 519E of the Public Health Service Act, as amended. This program addresses the growing problem of methamphetamine abuse and addiction by assisting localities to expand prevention interventions that are effective and evidence-based and/or to increase capacity through infrastructure development. According to the 2005 National Survey on Drug Use and Health, 10.4 million Americans age 12 and older had tried methamphetamine at least once in their lifetime. In addition, the number of methamphetamine users who were dependent on or abused some kind of illicit drug rose significantly from 164,000 in 2002 to 257,000 in 2005. The goal of the Methamphetamine Abuse Prevention grants is to intervene effectively to prevent, reduce, or delay the use and/or spread of methamphetamine abuse.

Proposed Methamphetamine Prevention and Abuse grants will focus on conducting community-based prevention programs targeting those populations within the community that are most at risk for methamphetamine abuse and addiction. In addition, grants may be used for assisting local government entities to conduct appropriate methamphetamine prevention activities in rural and urban areas that are experiencing increases in methamphetamine abuse and addiction. This can be documented by local and specific epidemiological, health service use, judicial and/or environmental data. Activities may include: Training and educating state and local law enforcement officials, prevention and education officials, members of community anti-drug coalitions, and parents on the signs of methamphetamine abuse and addiction and the options for prevention; planning, administration, and educational activities related to the prevention of methamphetamine abuse and addiction; monitoring and evaluating of methamphetamine prevention activities, and reporting and disseminating resulting information to the public; or conducting and evaluating targeted pilot programs.

The grantees will be collecting data on the approved National Outcomes Measures (NOMs) —OMB No. 0930-0230—and program specific questions on youth and adults Methamphetamine use. There are two surveys: One for adults ages 18 and older and another for youths under the age of 18. The adult and youth surveys contain 40 and 42 questions respectively with the first 12 questions covering the OMB approved NOMs questions. The focus areas for the adult surveys comprise of attitudes toward tobacco, alcohol, and other substances; attitudes and experiences; family relationships, relationships with those around you; future goals; thoughts, beliefs, and experiences related to methamphetamines; and thoughts on possible effects of methamphetamine use. The youth survey focus areas include: General information; attitudes toward tobacco, alcohol, and other substances; attitudes and experiences; family relationships; school experiences; perceived probability to try substances; where they receive substance abuse information; thoughts, beliefs, and experiences relating to methamphetamine; effects of methamphetamine use; and how comfortable they were with answering the survey questions. Additional non-methamphetamine related questions are included to identify risk and protective factors for methamphetamine. These questions identify demographic information which will be useful in categorizing results. Some program specific questions were suggested and agreed upon by the grantees in the review of the survey.

All applicants must describe their evaluation plans in their applications, and funded grantees are required to conduct an evaluation of their projects. The evaluation should be designed to provide regular feedback in order to facilitate project improvements. The evaluation must include both process and outcome components which must measure change relating to project goals and objectives over time compared to baseline information. Control or comparison groups are not required. Applicants must consider their evaluation plans when preparing the project budget. The grantees will collect data from program participants at three time periods: Baseline, exit, and 6-month follow-up. Each Methamphetamine grantee will collect program specific questions in addition to NOM questions. Similar to the submission process for the Government Performance and Results Act (GPRA), grantees will submit their NOM-Meth data to their respective program Project Officers as well as to the Center for Substance Abuse Prevention's (CSAP) Data Coordination and Consolidation Center (DCCC) two times per year. The OMB approved NOMs incorporate the GPRA measures for reporting and are approved for all PRNS. DCCC will be responsible for data collection and analysis across grantee sites, while individual grantees will be responsible for their own analyses.

The burden is greatly reduced by the fact that the data collection process can be conducted by submitting electronic files. In many cases, some programs can collect all data online. The SAMHSA Prevention Platform has publicly available online data collection and reporting tools such as the database builder, which can be used to meet these reporting requirements. Other tools are under development. CSAP is currently developing a web-based data entry tool that will assist grantees in submitting their data electronically. This data entry tool will reduce the burden on those grantees that do not yet have the capacity to submit large batch files. The DCCC will use this data for secondary analysis that will aid CSAP in responding to GPRA, Office of National Drug Control Policy as well as other federal reporting requirements.

Survey | Number of respondents | Responses per respondent | Hours per response | Total Burden Hours
Baseline Survey | 3,000 | 1 | .83 | 2,500
Exiting Survey | 2,400 | 1 | .83 | 2,000
6 month follow up survey | 1,680 | 1 | .83 | 1,400
Total | 7,080 |  |  | 5,900

Written comments and recommendations concerning the proposed information collection should be sent by July 2, 2008 to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-6974.

Dated: May 23, 2008.
Elaine Parry,
Acting Director, Office of Program Services.

[FR Doc. E8-12177 Filed 5-30-08; 8:45 am]

BILLING CODE 4162-20-P